ENVIRONMENTAL PROTECTION AGENCY

[EPA-HQ-OPP-2007-0965; FRL-8151-1]

Exposure Modeling Public Meeting

AGENCY: Environmental Protection Agency (EPA).

ACTION: Notice.

SUMMARY: An Exposure Modeling Public Meeting (EMPM) will be held for one day on October 30, 2007. This notice announces the location and time for the meeting and sets forth the tentative agenda topics.

DATES: The meeting will be held on October 30, 2007 from 9:00 am to 3:00 pm.

To request accommodation of a disability, please contact the person listed under FOR FURTHER INFORMATON CONTACT, preferably at least 10 days prior to the meeting, to give EPA as much time as possible to process your request.

ADDRESSES: The meeting will be held at Environmental Protection Agency, Office of Pesticide Programs (OPP), One Potomac Yard (South Bldg.), 1st Floor South Conference Room, 2777 S. Crystal Dr., Arlington, VA 22202.

FOR FURTHER INFORMATION CONTACT: R. David Jones, Environmental Fate and Effects Division (7507P), Office of Pesticide Programs, Environmental Protection Agency, 1200 Pennsylvania Ave., NW., Washington, DC 20460-0001; telephone number: (703) 305-6725; fax number: (703) 305-6309; e-mail address: jones.rdavid@epa.gov.

SUPPLEMENTARY INFORMATION:

I. General Information

A. Does this Action Apply to Me?

You may be potentially affected by this action if you are required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0965 Publicly available docket materials are available either in the electronic docket at http://www.regulations.gov, or, if only available in hard copy, at the Office of Pesticide Programs (OPP) Regulatory Public Docket in Rm. S-4400, One Potomac Yard (South Bldg.), 2777 S. Crystal Dr., Arlington, VA 22202. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

On a triannual interval, an Exposure Modeling Public Meeting will be held for presentation and discussion of current issues in modeling pesticide fate, transport, and exposure in support of risk assessment in a regulatory context. Meeting dates and abstract requests are announced through the “empmlist” forum on the LYRIS list server at: https://lists.epa.gov/read/all_forums/

III. How Can I Request to Participate in this Meeting?

You may submit a request to participate in this meeting to the person listed under FOR FURTHER INFORMATION CONTACT. Do not submit any information in your request that is considered CBI. Requests to participate in the meeting, identified by docket ID number EPA-HQ-OPP-2007-0965, must be received on or before October 18, 2007.

IV. Tentative Agenda

9:00 am Welcome and Introductions

9:15 am Brief Updates:

New versions of GENEEC/FIRST (R. Parker)

New version of PE4/PRZM/EXAMS (G. Orrick)

Scenarios for BSS and CRLF (R. D. Jones)

Evaluation of EXPRESS (M. Barrett)

Presentations:

9:45 am Simulating Residential Watersheds Using PRZM and EXAMS -R. D. Jones - EPA (30 minutes)

10:15 am Estimating Pesticide Exposure for a Karst Watershed in Texas-M. Corbin - EPA (30 min)

10:45 am Break

11:00 am Environmental Exposure Modeling in Antimicrobials Division-J. Breithaupt - EPA (30 min)

11:30 am A Platform for Modeling Rice Using RiceWQ and EXAMS-M. William - Waterborne Environmental (60 min)

12:00 pm Lunch

1:00 pm Urban Use of Pesticides and Water Exposure- B. L. Bhaduri - Oak Ridge (60 min)

2:00 pm GIS Applications for Exposure Modeling - Drinking Water Watersheds, New PCAs, Turf- M Thawley - EPA (30 min)

2:30 pm Discussion and Wrap up

List of Subjects

Environmental protection, Modeling, Pesticides, Pest.

Dated: September 25, 2007.
Arthur-Jean Williams,
Acting Director, Environmental Fate and Effects Division, Office of Pesticide Programs.

[FR Doc. E7-19521 Filed 10-2-07; 8:45 am]

BILLING CODE 6560-50-S